DEPARTMENT OF THE INTERIOR

Bureau of Land Management

[F-21901-33, F-21901-34, F-21901-35, F-21901-71, F-21904-39, F-21904-40, F-21904-42, F-21904-43, F-21904-44, F-21904-46, F-21904-47, F-21904-48, F-21904-76, F-21904-77, F-21904-78, F-21904-83, F-21904-93, F-21905-62, F-21905-74, F-21905-76, F-21905-78, F-21905-79; 20X-LLAK-944000-L14100000-HY0000-P]

Alaska Native Claims Selection

AGENCY: Bureau of Land Management, Interior.

ACTION: Notice of modified decision approving lands for conveyance.

SUMMARY: The Bureau of Land Management hereby provides constructive notice that the decision approving lands for conveyance to Doyon, Limited, notice of which was published in the Federal Register on March 11, 2009, will be modified to add two easement reservations and modify an existing easement reservation.

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, Alaska 99513-7504.

FOR FURTHER INFORMATION CONTACT: Bettie J. Shelby, BLM Alaska State Office, at 907-271-5596, or bshelby@blm.gov. The BLM Alaska State Office may also be contacted via Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), notice is hereby given that the decision approving lands for conveyance to Doyon, Limited, notice of which was published in the Federal Register on March 11, 2009 (74 FR 10609), will be modified to include two additional easements and an amended easement to be reserved to the United States. Section 17(b)(1) of the Alaska Native Claims Settlement Act of December 18, 1971, 43 U.S.C. 1616(b)(1), requires the Secretary to evaluate public access to Federal land and waters on lands to be conveyed to ANCSA corporations. Identification of public easements to be reserved to the United States is an inherent part of the ANCSA conveyance process and is guided by the regulations at 43 CFR 2650.4-7. Notice of the modified decision will also be published once a week for four consecutive weeks in the “Fairbanks Daily News-Miner”.

Any party claiming a property interest in the lands affected by the changes made in the modified decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until March 30, 2020 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed. Except as modified, the decision of March 11, 2009, notice of which was given March 11, 2009, is final.

Bettie J. Shelby,
Land Law Examiner, Adjudication Section.

[FR Doc. 2020-03972 Filed 2-26-20; 8:45 am]

BILLING CODE 4310-JA-P